DEPARTMENT OF ENERGY

Federal Energy Regulatory Commission

Combined Notice of Filings #1

Take notice that the Commission received the following electric corporate filings:

Docket Numbers: EC23-110-000.

Applicants: 2018 ESA Project Company, LLC, AL Fuel Cell Acquirer, LLC.

Description: Supplement to July 18, 2023, Joint Application for Authorization Under Section 203 of the Federal Power Act of 2018 ESA Project Company, LLC, et al.

Filed Date: 7/26/23.

Accession Number: 20230726-5107.

Comment Date: 5 p.m. ET 8/24/23.

Take notice that the Commission received the following exempt wholesale generator filings:

Docket Numbers: EG23-254-000.

Applicants: Cereal City Solar, LLC.

Description: Cereal City Solar, LLC submits Notice of Self-Certification of Exempt Wholesale Generator Status.

Filed Date: 8/11/23.

Accession Number: 20230811-5154.

Comment Date: 5 p.m. ET 9/1/23.

Docket Numbers: EG23-255-000.

Applicants: AES WR Limited Partnership.

Description: AES WR Limited Partnership submits Notice of Self-Certification of Exempt Wholesale Generator Status.

Filed Date: 8/14/23.

Accession Number: 20230814-5069.

Comment Date: 5 p.m. ET 9/5/23.

Docket Numbers: EG23-256-000.

Applicants: High Banks Wind, LLC.

Description: High Banks Wind, LLC submits Notice of Self-Certification of Exempt Wholesale Generator Status.

Filed Date: 8/14/23.

Accession Number: 20230814-5099.

Comment Date: 5 p.m. ET 9/5/23.

Take notice that the Commission received the following Complaints and Compliance filings in EL Dockets:

Docket Numbers: EL23-91-000.

Applicants: Michigan Electric Transmission Company, LLC, et al v. Michigan Public Power Agency.

Description: Complaint of Michigan Electric Transmission Company, LLC, et al. v. Michigan Public Power Agency.

Filed Date: 8/11/23.

Accession Number: 20230811-5173.

Comment Date: 5 p.m. ET 8/31/23.

Take notice that the Commission received the following electric rate filings:

Docket Numbers: ER10-2033-009; ER17-1972-001; ER15-190-021; ER22-2042-001; ER12-2337-001; ER12-2338-001; ER19-2684-002; ER23-256-002; ER23-246-002; ER12-2349-001; ER18-1343-014; ER16-355-004; ER16-141-006; ER15-255-005; ER10-2032-010; ER12-2313-007; ER10-1330-009; ER18-2466-002; ER18-2465-002; ER19-2343-003; ER17-2336-007; ER13-2387-010.

Applicants: Duke Energy Florida, Inc., Shoreham Solar Commons LLC,2018 ESA Project Company, LLC, Potter Road Powerhouse LLC, Federal Way Powerhouse LLC, North Allegheny Wind, LLC, Laurel Hill Wind Energy, LLC, Duke Energy Kentucky, Inc., Duke Energy Beckjord Storage, LLC, Conetoe II Solar, LLC, Colonial Eagle Solar, LLC, Carolina Solar Power, LLC, Kit Carson Windpower, LLC, Happy Jack Windpower, LLC, Silver Sage Windpower, LLC, Palmer Solar, LLC, Top of the World Wind Energy, LLC, Three Buttes Windpower, LLC, Jackpot Holdings, LLC, Duke Energy Renewable Services, LLC, Duke Energy Renewable Services, LLC, Duke Energy Ohio, Inc.

Description: Supplement to Duke Energy Ohio, Inc, et al.

Filed Date: 3/7/23.

Accession Number: 20230307-5187.

Comment Date: 5 p.m. ET 9/5/23.

Docket Numbers: ER22-2357-001.

Applicants: ISO New England Inc., Eversource Energy Service Company (as agent), Cross-Sound Cable Company, LLC, New England Power Pool Participants Committee, The United Illuminating Company.

Description: Compliance filing: ISO New England Inc. submits tariff filing per 35: ISO-NE.; Further Compliance with Order No. 881—Docket No. ER22-2357 to be effective 7/12/2025.

Filed Date: 8/14/23.

Accession Number: 20230814-5092.

Comment Date: 5 p.m. ET 9/5/23.

Docket Numbers: ER22-2363-001.

Applicants: Midcontinent Independent System Operator, Inc.

Description: Compliance filing: 2023-08-14_Compliance Filing on Order 881 Managing Transmission Line Ratings to be effective 7/11/2025.

Filed Date: 8/14/23.

Accession Number: 20230814-5122.

Comment Date: 5 p.m. ET 9/5/23.

Docket Numbers: ER23-2203-001.

Applicants: Wildflower Solar, LLC.

Description: Tariff Amendment: Amendment to Market-Based Rate Application to be effective 8/21/2023.

Filed Date: 8/14/23.

Accession Number: 20230814-5108.

Comment Date: 5 p.m. ET 9/5/23.

Docket Numbers: ER23-2296-001.

Applicants: PJM Interconnection, L.L.C.

Description: Tariff Amendment: Amendment of NSA, SA No. 6989; Queue No. AE1-040 in Docket ER23-2296-000 to be effective 8/29/2023.

Filed Date: 8/11/23.

Accession Number: 20230811-5133.

Comment Date: 5 p.m. ET 9/1/23.

Docket Numbers: ER23-2612-001.

Applicants: PJM Interconnection, L.L.C.

Description: Tariff Amendment: Correction to Revisions to Sch. 12—Appx A and C—July 2023 RTEP to be effective 11/9/2023.

Filed Date: 8/14/23.

Accession Number: 20230814-5118.

Comment Date: 5 p.m. ET 9/5/23.

Docket Numbers: ER23-2617-000.

Applicants: Orlando Utilities Commission.

Description: § 205(d) Rate Filing: Certificate of Concurrence with Duke Energy Florida N-C LGIA to be effective 10/1/2023.

Filed Date: 8/11/23.

Accession Number: 20230811-5132.

Comment Date: 5 p.m. ET 9/1/23.

Docket Numbers: ER23-2618-000.

Applicants: PJM Interconnection, L.L.C.

Description: § 205(d) Rate Filing: Original ISA, Service Agreement No. 7033; Queue No. AF2-166 to be effective 7/14/2023.

Filed Date: 8/14/23.

Accession Number: 20230814-5030.

Comment Date: 5 p.m. ET 9/5/23.

Docket Numbers: ER23-2619-000.

Applicants: BP Energy Holding Company LLC.

Description: Tariff Amendment: Notice of Cancellation of Market-Based Rate Tariff and Request for Waiver to be effective 8/15/2023.

Filed Date: 8/14/23.

Accession Number: 20230814-5040.

Comment Date: 5 p.m. ET 9/5/23.

Docket Numbers: ER23-2620-000.

Applicants: ISO New England Inc.

Description: ISO New England Inc. submits Capital Budget Quarterly Filing for Second Quarter of 2023.

Filed Date: 8/11/23.

Accession Number: 20230811-5186.

Comment Date: 5 p.m. ET 9/1/23.

Docket Numbers: ER23-2621-000.

Applicants: PacifiCorp.

Description: Tariff Amendment: Notice of Termination of Cost-Based Load Service Contract to be effective 10/14/2023.

Filed Date: 8/14/23.

Accession Number: 20230814-5091.

Comment Date: 5 p.m. ET 9/5/23.

Take notice that the Commission received the following public utility holding company filings:

Docket Numbers: PH23-15-000.

Applicants: Revity Energy, LLC.

Description: Revity Energy LLC submits FERC 65-A Exemption Notification.

Filed Date: 8/11/23.

Accession Number: 20230811-5182.

Comment Date: 5 p.m. ET 9/1/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date.

Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202)502-6595 or OPP@ferc.gov.

Dated: August 14, 2023.
Debbie-Anne A. Reese,
Deputy Secretary.

[FR Doc. 2023-17797 Filed 8-17-23; 8:45 am]

BILLING CODE 6717-01-P